DEPARTMENT OF LABOR

Employment and Training Administration

[TA-W-62,013]

Columbia Lighting: Spokane, WA; Notice of Termination of Investigation

Pursuant to Section 221 of the Trade Act of 1974, as amended, an investigation was initiated on August 21, 2007 in response to a petition filed by a company official on behalf of workers of Columbia Lighting, Spokane, Washington.

The petitioner has requested that the petition be withdrawn. Consequently, the investigation has been terminated.

Signed at Washington, DC, this 24th day of October, 2007.
Elliott S. Kushner,
Certifying Officer, Division of Trade Adjustment Assistance.

[FR Doc. E7-21350 Filed 10-30-07; 8:45 am]

BILLING CODE 4510-FN-P